DEPARTMENT OF AGRICULTURE

Agricultural Marketing Service

7 CFR Part 1211

[Document No. AMS-FV-11-0074; PR-1A]

RIN 0581-AD24

Hardwood Lumber and Hardwood Plywood Promotion, Research and Information Order; Reopening and Extension of Comment Period on Proposed Establishment of a Program

AGENCY: Agricultural Marketing Service, USDA.

ACTION: Reopening and extension of comment period.

SUMMARY: Notice is hereby given that the comment period on the proposed rule establishing an industry-funded promotion, research and information program for hardwood lumber and hardwood plywood is reopened and extended. The comment period is also extended for the new hardwood lumber and hardwood plywood information collection requirements by the Office of Management and Budget (OMB) for the operation of the proposed program. The proposed Hardwood Lumber and Hardwood Plywood Promotion, Research and Information Order, was submitted to the U.S. Department of Agriculture (USDA) by the Blue Ribbon Committee, a committee of 14 hardwood lumber and hardwood plywood industry leaders representing small and large manufacturers and geographically distributed throughout the United States.

DATES: The comment period for the proposed rule published November 13, 2013 (78 FR 68298), is extended. Comments must be received by February 18, 2014. Pursuant to the Paperwork Reduction Act (PRA), comments on the information collection burden that would result from this proposal must be received by February 18, 2014.

ADDRESSES: Interested persons are invited to submit written comments on the Internet at http://www.regulations.gov or to the Promotion and Economics Division, Fruit and Vegetable Program, AMS, USDA, 1400 Independence Avenue SW., Room 1406-S, Stop 0244, Washington, DC 20250-0244; facsimile: (202) 205-2800. All comments should reference the docket number and the date and page number of this issue of the Federal Register and will be made available for public inspection, including the name and address if provided, in the above office during regular business hours or can be viewed at http://www.regulations.gov.

Pursuant to the PRA, comments regarding the accuracy of the burden estimate; ways to minimize the burden, including the use of automated collection techniques or other forms of information technology; or any other aspect of this collection of information; should be sent to the above address. In addition, comments concerning the information collection should also be sent to the Desk Office for Agriculture, Office of Information and Regulatory Affairs, OMB, New Executive Office Building, 725 17th Street NW., Room 725, Washington, DC 20503.

FOR FURTHER INFORMATION CONTACT: Patricia A. Petrella, Marketing Specialist, Promotion and Economics Division, Fruit and Vegetable Program, AMS, USDA, 1400 Independence Avenue SW., Room 1406-S, Stop 0244, Washington, DC 20250-0244; telephone: (301) 334-2891; or facsimile: (301) 334-2896; or email: Patricia.Petrella@ams.usda.gov.

SUPPLEMENTARY INFORMATION: A proposed rule was issued on November 6, 2013, and published in the Federal Register on November 13, 2013 (78 FR 68298). That rule proposed the establishment of an industry-funded promotion, research and information program for hardwood lumber and hardwood plywood.

USDA received congressional inquiries and letters from industry members requesting that the comment period be extended to allow additional time for interested persons to review the proposal and submit comments.

USDA is reopening and extending the comment period an additional 30 days to allow interested persons more time to review the proposed rule, perform a complete analysis, and submit written comments.

Authority: This notice is issued pursuant to the Commodity Promotion, Research, and Information Act of 1996 (1996 Act) (7 U.S.C. 7411-7425).

Dated: January 10, 2014.
Rex A. Barnes,
Associate Administrator.

[FR Doc. 2014-00733 Filed 1-13-14; 4:15 pm]

BILLING CODE 3410-02-P